DEPARTMENT OF JUSTICE

Notice of Lodging of Proposed Consent Decree Under the Clean Air Act

On January 6, 2015, the Department of Justice lodged a proposed Consent Decree with the United States District Court for the State of New Jersey in the lawsuit entitled United States v. E.I. duPont de Nemours and Company, Inc., Civil Action No. 1:15-cv-00102-NLH-AMD.

The United States filed this lawsuit under the Clean Air Act, 42 U.S.C. 7401, et seq., and the Emergency Planning and Community Right-to-Know Act, 42 U.S.C. 11001, et seq. The United States' complaint seeks civil penalties and injunctive relief for violations of the regulations that govern equipment leak standards from organic chemical manufacturing facilities (specifically, the chlorofluorocarbon regulations, 40 CFR part 82, subpart F (“CFC Regulations”); the national emissions standards for miscellaneous organic chemical manufacturing, 40 CFR part 63, subpart FFFF; the equipment leak standards of 40 CFR part 63, subpart H; and the company's CAA Title V operating permit). The violations occurred at du Pont's Chambers Works manufacturing facility in Deepwater, New Jersey. The Decree requires du Pont to pay a civil penalty of $530,520, and treat any refrigeration units with secondary refrigeration loops at the facility as covered by the CFC regulations.

The publication of this notice opens a period for public comment on the Consent Decree. Comments should be addressed to the Assistant Attorney General, Environment and Natural Resources Division, and should refer to United States v. E.I. duPont de Nemours and Company, Inc., D.J. Ref. No. 90-5-2-1-09872. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $5.50 (25 cents per page reproduction cost) payable to the United States Treasury.

Henry Friedman,
Assistant Section Chief, Environmental Enforcement Section, Environment and Natural Resources Division.

[FR Doc. 2015-00492 Filed 1-14-15; 8:45 am]

BILLING CODE 4410-15-P